DEPARTMENT OF TRANSPORTATION

Surface Transportation Board

[Docket No. FD 35627]

Southwest Pennsylvania Railroad Company—Acquisition Exemption—Laurel Hill Development Corporation

Southwest Pennsylvania Railroad Company (SPRC), a Class III rail carrier, has filed a verified notice of exemption under 49 CFR 1150.41 to acquire a 0.66-mile line of railroad owned by Laurel Hill Development Corporation (LHDC) (formerly Fay Penn Industrial Development Corporation) (Fay Penn).¹ The trackage to be acquired by SPRC is known as the Redstone Branch, extending between Rail Valuation Stations 874+34 and 839+30 in Uniontown, Pa., and more particularly described on Valuation Maps V. 23.24/16+17, containing 12.21 acres. SPRC, the current operator of the line, states that it intends to expand and upgrade wye track facilities and branch line tracks to improve operational efficiencies and to better serve its customers.

¹ In Fay Penn Industrial Development Corporation—Acquisition Exemption—CSX Transportation, Inc., FD 33051 (STB served Oct. 4, 1996), Fay Penn was authorized to acquire certain rail lines extending between specified points in Pennsylvania, and in Southwest Pennsylvania Railroad Company—Operation Exemption—CSX Transportation, Inc., FD 33051 (Sub-No. 1) (STB served Oct. 4, 1996), SPRC was authorized to operate the lines acquired by Fay Penn and also was authorized to acquire four miles of incidental trackage rights. In CSX Transportation, Inc.—Abandonment Exemption—in Fayette and Westmoreland Counties, Pa., AB 55 (Sub-No. 420X) (ICC served Nov. 28, 1994), Fay Penn, successor in interest to Fay-Penn Land Trust, obtained authority as the designee of the Commonwealth of Pennsylvania, along with the Westmoreland County Industrial Development Corporation, to acquire a rail line between specified points in Fayette and Westmoreland Counties, Pa., under the agency's offer of financial assistance procedures. In Southwest Pennsylvania Railroad Company—Lease and Operation Exemption—Lines of Westmoreland County Industrial Development Corporation and Fay-Penn Land Trust, FD 32737 (ICC served July 21, 1995), SPRC was authorized to lease and operate that rail line. Most recently, in Southwest Pennsylvania Railroad Company—Acquisition Exemption—Laurel Hill Development Corporation, FD 35584 (STB served Jan. 13, 2012), SPRC was authorized to acquire a number of rail lines totaling 29.09 miles in length from LHDC extending generally between Everson and Broadford, Pa., and between Greene Junction and Smithfield, Pa., including Bowest Yard and various branch lines.

SPRC certifies that its projected annual revenues as a result of the transaction will not exceed those that would qualify it as a Class III rail carrier and will not exceed $5 million.

The transaction may be consummated on or after June 20, 2012, the effective date of the exemption.

If the verified notice contains false or misleading information, the exemption is void ab initio. Petitions to revoke the exemption under 49 U.S.C. 10502(d) may be filed at any time. The filing of a petition to revoke will not automatically stay the effectiveness of the exemption. Petitions for stay must be filed no later than June 13, 2012 (at least 7 days before the exemption becomes effective).

An original and 10 copies of all pleadings, referring to Docket No. FD 35627, must be filed with the Surface Transportation Board, 395 E Street SW., Washington, DC 20423-0001. In addition, a copy of each pleading must be served on Richard R. Wilson, 518 N. Center Street, Ste. 1, Ebensburg, PA 15931.

Board decisions and notices are available on our Web site at www.stb.dot.gov.

Decided: June 1, 2012.
By the Board, Rachel D. Campbell, Director, Office of Proceedings.
Clearance Clerk,
Raina White.

[FR Doc. 2012-13658 Filed 6-5-12; 8:45 am]

BILLING CODE 4915-01-P